BUREAU OF CONSUMER FINANCIAL PROTECTION

[Docket No: CFPB-2013-0016]

Agency Information Collection Activities; Comment Request

AGENCY: Bureau of Consumer Financial Protection.

ACTION: Notice and request for comment.

SUMMARY: In accordance with the Paperwork Reduction Act of 1995 (PRA), the Consumer Financial Protection Bureau (Bureau) is proposing a new information collection, titled “Telephone Survey Exploring Consumer Awareness of and Perceptions Regarding Dispute Resolution Provisions in Credit Card Agreements.”

DATES: Written comments are encouraged and must be received on or before August 6, 2013 to be assured of consideration.

ADDRESSES: You may submit comments, identified by the title of the information collection, Office of Management and Budget (OMB) Control Number (see below), and docket number (see above), by any of the following methods:

• Electronic: http://www.regulations.gov. Follow the instructions for submitting comments.

• Mail/Hand Delivery/Courier: Consumer Financial Protection Bureau (Attention: PRA Office), 1700 G Street NW., Washington, DC 20552.

Please note that comments submitted by fax or email and those submitted after the comment period will not be accepted. In general, all comments received will be posted without change to regulations.gov, including any personal information provided. Sensitive personal information, such as account numbers or social security numbers, should not be included.

FOR FURTHER INFORMATION CONTACT: Documentation prepared in support of this information collection request is available at www.regulations.gov. Requests for additional information should be directed to the Consumer Financial Protection Bureau, (Attention: PRA Office), 1700 G Street NW., Washington, DC 20552, (202) 435-9575, or email: CFPB_Public_PRA@cfpb.gov. Please do not submit comments to this mailbox.

SUPPLEMENTARY INFORMATION: Title of Collection: Telephone Survey Exploring Consumer Awareness of and Perceptions Regarding Dispute Resolution Provisions in Credit Card Agreements.

OMB Control Number: 3170-XXXX.

Type of Review: Regular.

Affected Public: Individuals or households.

Estimated Number of Respondents: 1,000 (and an additional 6,000 non-respondents).

Estimated Total Annual Burden Hours: 350 hours (including non-response).

Abstract: The Bureau seeks approval from OMB to conduct a national telephone survey of 1,000 credit card holders as part of its study of mandatory pre-dispute arbitration agreements, which is required under Section 1028(a) of the Dodd-Frank Wall Street Reform and Consumer Protection Act, Public Law 111-203, Title XIV.

The survey will explore the extent of consumer awareness of dispute resolution provisions in their agreements with credit card providers, as well as consumers' assessments of such provisions. The survey will necessarily seek information regarding consumers' perceptions and valuations of the two primary forms of dispute resolution: arbitration and litigation. The survey will not, however, gather data regarding respondents' post-fact satisfaction with arbitration or litigation proceedings.

Request for Comments: Comments are invited on: (a) Whether the collection of information is necessary for the proper performance of the functions of the Bureau, including whether the information shall have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for Office of Management and Budget (OMB) approval. All comments will become a matter of public record.

Dated: May 30, 2013.
Matthew Burton,
Acting Chief Information Officer, Bureau of Consumer Financial Protection.

[FR Doc. 2013-13490 Filed 6-6-13; 8:45 am]

BILLING CODE 4810-AM-P